FEDERAL ELECTION COMMISSION

Sunshine Act Meeting

AGENCY: Federal Election Commission.

DATE and TIME: Thursday, October 27, 2016 at 10:00 a.m.

PLACE: 999 E Street NW., Washington, DC (Ninth Floor).

STATUS: This Meeting will be Open to the Public.

ITEMS TO BE DISCUSSED:

Draft Advisory Opinion 2016-12: Citizen Super PAC

Draft Advisory Opinion 2016-11: Plains Cotton Growers, Inc. and Plains Cotton Growers Political Action Committee

Draft Advisory Opinion 2016-14: Libertarian Party of Alabama, Libertarian Party of Arkansas, Arizona Libertarian Party, Libertarian Party of Hawaii, Libertarian Party of Idaho, Libertarian Party of Maryland, Libertarian Party of Mississippi, Missouri State Libertarian Party, Libertarian Party of New Mexico, Libertarian Party of North Dakota, Libertarian Party of Texas

Proposed Amendments to Directive 52

Audit Division Recommendation Memorandum on Conservative Campaign Committee (CCC) (A13-15)

Management and Administrative Matters

Individuals who plan to attend and require special assistance, such as sign language interpretation or other reasonable accommodations, should contact Shawn Woodhead Werth, Secretary and Clerk, at (202) 694-1040, at least 72 hours prior to the meeting date.

PERSON TO CONTACT FOR INFORMATION: Judith Ingram, Press Officer, Telephone: (202) 694-1220.

Shawn Woodhead Werth,
Secretary and Clerk of the Commission.

[FR Doc. 2016-25797 Filed 10-20-16; 4:15 pm]

BILLING CODE 6715-01-P